FEDERAL COMMUNICATIONS COMMISSION

47 CFR Part 63

[WC Docket No. 17-84; DA 20-1241; FRS 17274]

Accelerating Wireline Broadband Deployment by Removing Barriers to Infrastructure Investment

AGENCY: Federal Communications Commission.

ACTION: Final rule.

SUMMARY: In this document, the Wireline Competition Bureau of Federal Communications Commission (Commission) makes two ministerial updates to the Commission's rules revising a now inaccurate cross-reference to the definition of copper retirement in changing it from now-repealed), and an inaccurate cross-reference to the definition of “technology transition” in section changing it from

DATES: Effective January 27, 2021.

ADDRESSES: Federal Communications Commission, 45 L Street NE, Washington, DC 20554.

FOR FURTHER INFORMATION CONTACT: Wireline Competition Bureau, Competition Policy Division, Michele Levy Berlove, at (202) 418-1477, michele.berlove@fcc.gov.

SUPPLEMENTARY INFORMATION: This is a summary of the Wireline Competition Bureau's Order in WC Docket No. 17-84, adopted October 20, 2020 and released October 20, 2020. The full text of this document is available on the Commission's website at https://docs.fcc.gov/public/attachments/DA-20-1241A1.docx. To request materials in accessible formats for people with disabilities (Braille, large print, electronic files, audio format), send an email to FCC504@fcc.gov or call the Consumer & Governmental Affairs Bureau at 202-418-0530 (voice), 202-418-0432 (TTY).

This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

The Commission will not send a copy of this Order on Reconsideration and Order to Congress and the Government Accountability Office pursuant to the Congressional Review Act, see 5 U.S.C. 801(a)(1)(A), because the adopted rules are rules of particular applicability. The final rules associated with the Order are ministerial clarifications of inaccurate cross-references of the Commission's rules.

Synopsis

I. Introduction

1. Next-generation networks hold the promise of new and improved service offerings for American consumers, and encouraging the deployment of these facilities as broadly as possible has long been a priority of the Commission. The COVID-19 pandemic has served to underscore the importance of ensuring that people throughout the country can reap the benefits of these next-generation networks, which provide increased access to economic opportunity, healthcare, education, civic engagement, and connections with family and friends. Removing unnecessary regulatory barriers faced by carriers seeking to transition legacy networks and services to modern broadband infrastructure is therefore a key component of the Commission's work to improve access to advanced communications services and to close the digital divide.

2. In this Order, the Wireline Competition Bureau adopts non-substantive ministerial updates to codified rules required by actions the Commission took in the 2017 Wireline Infrastructure First Report and Order (82 FR 61453, Dec. 28, 2017), by revising and correcting two now-inaccurate cross-references in the rules.

II. Order

3. In this Order, the Wireline Competition Bureau makes two ministerial updates to codified rules required by Commission actions taken in the 2017 Wireline Infrastructure First Report and Order. We revise a now-inaccurate cross-reference to the definition of copper retirement in § 63.60(i) of the rules, changing it from now-repealed § 51.332(a) to § 51.325(a)(3), and an inaccurate cross-reference to the definition of “technology transition” in § 63.602(a)(2), changing it from § 63.60(h) to § 63.60(i). We find that there is good cause for adopting this amendment here because an inaccurate cross-reference may confuse applicants seeking to determine whether a copper retirement, as defined by the rules, is excluded from consideration as a “technology transition” in accordance with § 63.60(i). The inaccurate cross-references occurred inadvertently as a result of a series of overlapping changes to these rules over a three year period when previous rules had not yet become effective at the time the new rules were adopted.

4. Section 553 of the Administrative Procedure Act permits the Commission to amend its rules without undergoing notice and comment where it finds good cause that doing so is “impracticable, unnecessary, or contrary to the public interest.” The Commission has previously determined that notice and comment is not necessary for “rule amendments to ensure consistency in terminology and cross references across various rules or to correct inadvertent failures to make conforming changes when prior rule amendments occurred.” Consistent with these previous decisions, in this instance the Wireline Competition Bureau finds that notice and comment is unnecessary for adopting ministerial revisions to §§ 63.60(i) and 63.602(a)(2) to ensure that the cross-references to the definitions of copper retirement and technology transition are consistent with the recent amendments to the Commission's rules.

5. This action is taken pursuant to the authority delegated by §§ 0.91 and 0.291 of the Commission's rules, 47 CFR 0.91 and 0.291.

III. Procedural Matters

6. This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

7. Contact Person. For further information about this proceeding, please contact Michele Levy Berlove, Competition Policy Division, Wireline Competition Bureau, at (202) 418-1477.

IV. Ordering Clauses

8. Accordingly, it is ordered that, pursuant to sections 1-4 and 214 of the Communications Act of 1934, as amended, 47 U.S.C. 151-154 and 214, this Order is adopted.

9. It is further ordered that part 63 of the Commission's rules is amended as set forth in the Final Rules.

10. It is further ordered that this Order shall be effective 30 days after publication in the Federal Register.

List of Subjects in 47 CFR Part 63

Cable television, Communications common carriers, Radio, Reporting and recordkeeping requirements, Telegraph, Telephone.

Federal Communications Commission.
Daniel Kahn,
Associate Chief, Wireline Competition Bureau.

Final Rules

For the reasons set forth above, part 63 of title 47 of the Code of Federal Regulations is amended as follows:

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

1. The authority for part 63 continues to read as follows:

Authority: 47 U.S.C. 151, 154(i), 154(j), 160, 201-205, 214, 218, 403, 571, unless otherwise noted.

2. Amend § 63.60 by revising paragraph (i) to read as follows:

§ 63.60 Definitions.

* * * * *

(i) The term “technology transition” means any change in service that would result in the replacement of a wireline TDM-based voice service with a service using a different technology or medium for transmission to the end user, whether internet Protocol (IP), wireless, or another type; except that retirement of copper, as defined in § 51.325(a)(3) of this chapter, that does not result in a discontinuance, reduction, or impairment of service requiring Commission authorization pursuant to this part shall not constitute a “technology transition” for purposes of this part.

3. Amend § 63.602 by revising paragraph (a)(2) to read as follows:

§ 63.602 Additional contents of applications to discontinue, reduce, or impair an existing retail service as part of a technology transition.

(a) * * *

(2) A statement identifying the application as involving a technology transition, as defined in § 63.60(i);

* * * * *

[FR Doc. 2020-26936 Filed 12-23-20; 8:45 am]

BILLING CODE 6712-01-P